NUCLEAR REGULATORY COMMISSION

[Docket Nos. 50-454 and 50-455; NRC-2018-0186]

Exelon Generation Company, LLC; Byron Station, Unit Nos. 1 and 2

AGENCY: Nuclear Regulatory Commission.

ACTION: License amendment application; withdrawal by applicant.

SUMMARY: The U.S. Nuclear Regulatory Commission (NRC) has granted the request of Exelon Generation Company, LLC (Exelon) to withdraw its application dated August 10, 2018, as supplemented by letter dated December 21, 2018, for proposed amendments to Facility Operating License Nos. NPF-37 and NPF-66, issued to Exelon for operation of the Byron Station, Unit Nos. 1 and 2. The proposed amendment would have extended the Completion Time for Technical Specification 3.8.1, “AC Sources-Operating,” Required Action A.2, on a one-time, temporary basis, based on a risk-informed approach.

DATES: March 14, 2019.

ADDRESSES: Please refer to Docket ID NRC-2018-0186 when contacting the NRC about the availability of information regarding this document. You may obtain publicly-available information related to this document using any of the following methods:

• Federal Rulemaking website: Go to http://www.regulations.gov and search for Docket ID NRC-2018-0186. Address questions about NRC Docket IDs in Regulations.gov to Krupskaya Castellon; telephone: 301-287-9221; email: Krupskaya.Castellon@nrc.gov. For technical questions, contact the individual(s) listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

FOR FURTHER INFORMATION CONTACT: Joel S. Wiebe, Office of Nuclear Reactor Regulation, U.S. Nuclear Regulatory Commission, Washington, DC 20555-0001; telephone: 301-415-6606, email: Joel.Wiebe@nrc.gov.

SUPPLEMENTARY INFORMATION: The NRC has granted the request of Exelon (the licensee) to withdraw its August 10, 2018, application (ADAMS Accession No. ML18226A097), as supplemented by letter dated December 21, 2018 (ADAMS Accession No. ML18355A699) for proposed amendments to Facility Operating License Nos. NPF-37 and NPF-66, issued to Exelon for operation of the Byron Station, Unit Nos. 1 and 2, located in Ogle County, Illinois.

The proposed amendment would have extended the Completion Time for Technical Specification 3.8.1, “AC Sources-Operating,” Required Action A.2, on a one-time, temporary basis based on a risk-informed approach. The extended Completion Time would have allowed the Byron Station, Unit Nos. 1 and 2, to continue operation for the duration of the extended Completion Time in the event a second station auxiliary transformer failed in Unit No. 2.

Exelon's August 10, 2018, request was published in the Federal Register on August 31, 2018 (83 FR 44677). Exelon requested to withdraw the request by letter dated February 8, 2019 (ADAMS Accession No. ML19039A272).

Dated at Rockville, Maryland, on March 11, 2019.
For the Nuclear Regulatory Commission.
Joel S. Wiebe,
Senior Project Manager, Plant Licensing Branch III, Division of Operating Reactors Licensing, Office of Nuclear Reactor Regulation.

[FR Doc. 2019-04755 Filed 3-13-19; 8:45 am]

BILLING CODE 7590-01-P